DEPARTMENT OF STATE

[Public Notice No. 3189]

Secretary of State's Advisory Committee on Private International

Law: Study Group Related to the Protection of Children Conventions and Agreements; Meeting notice

There will be a public meeting of a Study Group of the Secretary of State's Advisory Committee on Private International Law on Saturday, February 26, 2000, to discuss international protection of children issues. The meeting will be held from 9:30 to 4:30 p.m. in room 208 Vanderbilt Hall, New York University School of Law, 40 Washington Square South, New York, New York 10012. The meeting is scheduled to follow the Sixth Annual Herbert and Rose L. Rubin Symposium on International Law taking place at the School of Law on Friday, February 25, 2000, presented by the Journal of International Law and Politics: “Celebrating Twenty Years: The Past and Promise of the 1980 Hague Convention on the Civil Aspects of International Child Abduction.”

The purpose of the Study Group meeting is to assist the State Department develop United States policy in regard to existing and possible future international arrangements governing the protection of children. Discussions will center on the 1980 Hague Convention on the Civil Aspects of International Child Abduction; the 1996 Hague Convention on Jurisdiction, Applicable Law, Recognition, Enforcement and Cooperation in Respect of Parental Responsibility and Measures for the Protection of Children; United States bilateral arrangements for the enforcement of family support obligations, state arrangements for the enforcement of family support obligations, the 1956 United Nations Convention on the Recovery of Maintenance Abroad, and the proposed development of a new Hague convention on the enforcement of maintenance obligations.

Presentations by experts, both domestic and foreign, at the New York University symposium on Friday will provide a comprehensive background on the 1980 Abduction and 1996 Protection Conventions. In particular, the Study Group will consider the advisability of seeking signature and ratification of the 1996 Convention. The issues covered by these conventions are also related to the extent and effectiveness of international maintenance enforcement and the feasibility of the United States concluding bilateral arrangements. The experience of the United States at the federal and state level with bilateral arrangements will affect the policy positions to be taken by the United States in its continuing consideration of such arrangements and in participating in the development of a new multilateral maintenance convention by the Hague Conference on Private International Law.

Persons interested in the Study Group or in attending the February 26 meeting in New York may request copies of the conventions to be discussed, the United States legislation authorizing bilateral arrangements and the report of the 1999 Hague Conference meeting on maintenance conventions. These documents may be requested from Ms. Rosie Gonzales by fax at (202) 776-8482, by telephone at (202) 776-8420 (you may leave your request, name, telephone number and mailing address on the answering machine) or by email to [pildb@his.com].

The Study Group meeting is open to the public up to the capacity of the meeting room. Persons who wish to attend the meeting should notify Ms. Gonzales no later than February 23, and also provide their company or organization affiliation, mailing and email addresses and fax and telephone numbers. Any person who is unable to attend, but wishes to have his or her views considered, may send comments to Ms. Gonzales at the above fax number or email address or may address them to the office of the Assistant Legal Adviser for Private International Law (L/PIL), Suite 203, South Building, 2430 E Street, NW, Washington, DC 20037-2856.

Persons who are also interested in and want information about the symposium on Friday, February 25 should contact Ms. Karin Wolfe, Senior Symposium Editor, Journal of International Law and Politics, New York University School of Law, 110 West Third Street, New York, NY 10012-1074; phone: (212) 998-6520, fax: (212) 995-4032.

Jeffrey D. Kovar,
Assistant Legal Adviser for Private International Law.

[FR Doc. 00-2548 Filed 2-3ndash;00; 8:45 am]

BILLING CODE 4710-08-U